SOCIAL SECURITY ADMINISTRATION

Maximum Dollar Limit in the Fee Agreement Process

AGENCY: Social Security Administration.

ACTION: Notice.

SUMMARY: The Social Security Administration (SSA) is announcing that the maximum dollar limit for fee agreements approved under sections 206(a)(2)(A) and 1631(d)(2)(A) of the Social Security Act will be increased to $5,300 effective February 1, 2002. On or after February 1, 2002, decision-makers may approve fee agreements up to the new limit provided that the fee agreement otherwise meets the statutory conditions and is not excepted from the fee agreement process.

FOR FURTHER INFORMATION CONTACT: John B. Watson, Office of the General Counsel, phone (410) 965-3137, e-mail: john.watson@ssa.gov.

SUPPLEMENTARY INFORMATION: Section 5106 of Public Law No. 101-508, the Omnibus Budget Reconciliation Act of 1990, amended sections 206(a)(2)(A) and 1631(d)(2)(A) of the Social Security Act to provide for a streamlined process for obtaining approval of the fee a representative wishes to charge for representing a claimant before the Social Security Administration. To use that process, the representative and the claimant must agree, in writing, to a fee that does not exceed the lesser of 25% of past due benefits or a prescribed dollar amount. Public Law 101-508 established the initial amount at $4,000 and gave the Commissioner of Social Security the authority to increase it, from time to time, provided that the cumulative rate of increase does not at any time exceed the rate of increase in primary insurance amounts since January 1, 1991. The law further provided that notice of any increased amount shall be published in the Federal Register.

By this notice, we announce that the maximum dollar amount for fee agreements will increase to $5,300; fee agreements with the increased amount may be approved by a decision-maker on or after February 1, 2002. The limit of $5,300 was determined by applying the guideline described above: a hypothetical primary insurance amount of $4,000 on January 1, 1991 would increase by calendar year 2002 to $5,350. We rounded this amount down to the nearest $100 to simplify the figure for use by claimants, representatives, and SSA.

Dated: January 8, 2002.
Jo Anne B. Barnhart,
Commissioner of Social Security.

[FR Doc. 02-1223 Filed 1-16-02; 8:45 am]

BILLING CODE 4191-02-P